FEDERAL COMMUNICATIONS COMMISSION

47 CFR Part 73

[DA 00-1675; MM Docket No. 99-241; RM-9480]

Radio Broadcasting Services; Stamps and Fouke, AR

AGENCY: Federal Communications Commission.

ACTION: Final rule.

SUMMARY: In response to a request on behalf of In Phase Broadcasting, Inc., permittee of Station KLMZ, Channel 282A, Stamps, Arkansas, this document reallots Channel 282A to Fouke, Arkansas, and modifies the authorization for Station KLMZ accordingly, pursuant to the provisions of Section 1.420(i) of the Commission's Rules. See 64 FR 37924, July 14, 1999. Coordinates used for Channel 282A at Fouke are 33-15-42 NL and 93-53-06 WL.

DATES: Effective September 11, 2000.

ADDRESSES: Federal Communications Commission, Washington, DC 20554.

FOR FURTHER INFORMATION CONTACT: Nancy Joyner, Mass Media Bureau, (202) 418-2180.

SUPPLEMENTARY INFORMATION: This is a synopsis of the Commission's Report and Order, MM Docket No. 99-241, adopted July 19, 2000, and released July 28, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Arkansas, is amended by removing Channel 282A at Stamps.

3. Section 73.202(b), the Table of FM Allotments under Arkansas, is amended by adding Fouke, Channel 282A.

Federal Communications Commission.
John A. Karousos,
Chief, Allocations Branch, Policy and Rules Division, Mass Media Bureau.

[FR Doc. 00-20878 Filed 8-16-00; 8:45 am]

BILLING CODE 6712-01-P